NUCLEAR REGULATORY COMMISSION

[NRC-2010-0230]

Construction Reactor Oversight Process Request for Public Comment

AGENCY: Nuclear Regulatory Commission.

ACTION: Notice of opportunity for public comment.

SUMMARY: The U.S. Nuclear Regulatory Commission (NRC) staff is reconsidering the Construction Reactor Oversight Process (cROP), including the construction assessment process, as presented in IMC 2505, “Periodic Assessment of Construction Inspection Program Results,” in order to propose policy options to the Commission to revise the oversight process. The staff proposal will include program oversight currently included as part of the Inspections, Tests, Analyses, and Acceptance Criteria (ITAAC) monitoring and closure processes, and evaluate the inclusion of objective performance monitoring elements such as construction program Performance Indicators (PIs) and a Significance Determination Process (SDP) analogous to those used in the Reactor Oversight Process (ROP) for the current operating reactor fleet.

DATES: The comment period expires August 9, 2010. Comments received after this date will be considered if it is practical to do so, but the Commission is able to ensure consideration only for comments received on or before this date.

ADDRESSES: You may submit comments by any one of the following methods. Please include Docket ID NRC-2010-0230 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0230. Address questions about NRC dockets to Carol Gallagher 301-492-3668; e-mail Carol.Gallagher@nrc.gov.

Mail comments to: Cindy Bladey, Chief, Rules, Announcements and Directives Branch (RADB), Division of Administrative Services, Office of Administration, Mail Stop: TWB-05-B01M, U.S. Nuclear Regulatory Commission, Washington, DC 20555-0001, or by fax to RADB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

FOR FURTHER INFORMATION CONTACT: Kevin Mattern, Division of Construction Inspection and Operational Programs, U.S. Nuclear Regulatory Commission, Two White Flint North, 11545 Rockville Pike, Rockville, MD 20852-2738. Telephone: (301) 415-6622 or (301) 415-1395; Fax (301) 415-5400; E-mail: Kevin.Mattern@nrc.gov.

SUPPLEMENTARY INFORMATION: NRC staff are currently developing options and a recommendation to the Commission for a revised oversight process for new reactor construction with the objective of developing a risk-informed and performance based process, resulting in a more objective, predictable, and transparent process for licensees and members of the general public. To meet these objectives, the NRC staff is undertaking a comprehensive effort to develop a Construction Reactor Oversight Process using risk-informed and performance based tools. The NRC staff's efforts will be consistent with the recent Commission guidance in this area, notably the guidance provided in the Staff Requirements Memoranda (M081022) dated December 5, 2008 (Agencywide Documents Access and Management System [ADAMS] Accession No. ML083400193).

In SECY-09-0113, “Update on the Development of Construction Assessment Process Policy Options and the Construction Inspection Program Information Management System,” dated August 14, 2009 (Agencywide Documents Access and Management System Accession No. ML091970152), the NRC staff updated the Commission on the development of construction assessment process policy options.

Following the issuance of SECY-09-0113, the staff formed a cROP team in December 2009 with representatives from each regional office, the Office of Nuclear Reactor Regulation, the Office of Nuclear Security and Incident Response, and the Office of New Reactors. Team members offer a cross section of experience including personnel with extensive experience in developing and implementing the ROP. Through public workshops and stakeholder interactions, the cROP team is developing options for a cROP with elements similar to those used in the ROP. Specifically, the team is identifying the objectives, attributes, and activities that a construction oversight process would need to adequately and objectively assess licensee performance, as well as the sources of information necessary to support the assessment. These attributes include the application of thresholds to determine the significance of findings, a viable means to ensure appropriate NRC response to degrading licensee performance, and the assessment of licensee safety culture.

In SECY-10-0038, “Update Status on the Development of Construction Reactor Oversight Process Options,” dated April 2, 2010 (Agencywide Documents Access and Management System Accession No. ML100550490), the NRC staff provided the Commission with an additional update on staff's progress toward the development of construction oversight process options for Commission consideration.

In order to ensure all stakeholder input is considered during development of options for revising the cROP, NRC staff is seeking public comment and feedback on the specific topics highlighted in the questions below. In providing comments, each commenter's response should reference the number of the applicable question. Comments should be as specific as possible and should indicate why a commenter supports or does not support an aspect of this plan. The use of examples is encouraged.

(1) The staff has developed a draft of a new cROP regulatory framework, including cornerstone objectives, attributes and areas to measure (ADAMS Accession Nos. ML101050249; ML101050247). Are there important aspects of new reactor construction licensee performance that are not captured by the draft cROP regulatory framework?

(2) Is there a role for construction performance indicators as an input into the assessment of licensee construction activities? If so, what aspects of licensee activities during construction could be objectively measured by a PI? What should be considered in determining performance indicators and their thresholds?

(3) In the ROP, inspection findings are evaluated and given a color designation based on their safety significance using a risk-informed approach (the Significance Determination Process). What processes could be used to effectively and efficiently evaluate the safety significance of construction inspection findings?

(4) For the cROP, the staff intends to use a Construction Action Matrix similar to the ROP to assess licensee performance. Is there a more effective and efficient alternative approach that could be taken? If not, what inputs should be considered in the Construction Action Matrix?

(5) In the ROP, the NRC currently assigns safety culture component aspects to findings when appropriate. Substantive cross-cutting issues are identified when certain thresholds are crossed. Should the NRC treat findings in a similar manner in the construction environment?

(6) When is the appropriate time to transition from the cROP to the ROP? What is the basis for this proposed transition point?

(7) In addition to the previously mentioned issues, commenters are invited to give any other views on the NRC assessment process that could assist the NRC in improving its effectiveness.

End of Questions

Documents may be examined, and/or copied for a fee, at the NRC's Public Document Room at One White Flint North, 11555 Rockville Pike (first floor), Rockville, Maryland. Publicly available records will be accessible electronically from the ADAMS Public Electronic Reading Room on the Internet at the NRC Web site, http://www.nrc.gov/NRC/ADAMS/index.html. If you do not have access to ADAMS or if you have problems accessing the documents in ADAMS, contact the NRC Public Document Room (PDR) reference staff at 1-800-397-4209 or 301-415-4737 or by e-mail to pdr@nrc.gov.

Dated at Rockville, Maryland this 16th day of June 2010.
For the Nuclear Regulatory Commission.
Mohammed Shuaibi,
Acting Deputy Director, Division of Construction Inspection & Operational Programs, Office of New Reactors.

[FR Doc. 2010-15321 Filed 6-23-10; 8:45 am]

BILLING CODE 7590-01-P